Proclamation 8098 of December 29, 2006

To Take Certain Actions Under the African Growth and Opportunity Act and the Generalized System of Preferences

By the President of the United States of America

A Proclamation

1. Section 506A(a)(1) of the Trade Act of 1974, as amended (the “1974 Act”)(19 U.S.C. 2466a(a)(1)), as added by section 111(a) of the African Growth and Opportunity Act (title I of Public Law 106-200)(AGOA), authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the 1974 Act (19 U.S.C. 2462).

2. Section 104 of the AGOA authorizes the President to designate a country listed in section 107 of the AGOA as an “eligible sub-Saharan African country” if the President determines that the country meets certain eligibility requirements.

3. Section 112(b)(3)(B) of the AGOA (19 U.S.C. 3721(b)(3)(B)) provides special rules for certain apparel articles imported from “lesser developed beneficiary sub-Saharan African countries.”

4. Pursuant to section 104 of the AGOA and section 506A(a)(1) of the 1974 Act, I have determined that the Republic of Liberia (Liberia) meets the eligibility requirements set forth or referenced therein, and I have decided to designate Liberia as an eligible sub-Saharan African country and as a beneficiary sub-Saharan African country.

5. I further determine that Liberia satisfies the criterion for treatment as a “lesser developed beneficiary sub-Saharan African country” under section 112(b)(3)(B) of the AGOA.

6. Pursuant to sections 501 and 502(a) of the 1974 Act (19 U.S.C. 2461, 2462(a)), the President is authorized to designate countries as beneficiary developing countries and to designate any beneficiary developing country as a least-developed beneficiary developing country, for purposes of the Generalized System of Preferences (GSP) program.

7. Section 502(b)(1)(C) of the 1974 Act (19 U.S.C. 2462(b)(1)(C)) specifies that European Union Member States may not be designated as beneficiary developing countries for purposes of the GSP.

8. Section 507(2) of the 1974 Act (19 U.S.C. 2467(2)) provides that in the case of an association of countries that is a free trade area or customs union, or that is contributing to a comprehensive regional economic integration among its members through appropriate means, the President may provide that members of such an association other than members that are barred from designation under section 502(b) of the 1974 Act (19 U.S.C. 2462(b)) shall be treated as one country for purposes of the GSP.

9. Pursuant to section 502 of the 1974 Act, and taking into account the factors set forth in section 502(c)(19 U.S.C. 2462(c)), I have determined that East Timor should be designated as a beneficiary developing country under the GSP.

10. Pursuant to section 502 of the 1974 Act, and having considered the factors set forth in sections 501 and 502(c), I have also determined that East Timor should be designated as a least-developed beneficiary developing country for purposes of the GSP.

11. In accordance with section 502(b)(1)(C) of the 1974 Act, I have determined that Bulgaria and Romania may no longer be designated as beneficiary developing countries for purposes of the GSP, effective for each of these countries when it becomes a European Union Member State.

12. On June 29, 2005, I determined that currently qualifying members of the South Asian Association for Regional Cooperation (SAARC) should be treated as one country for purposes of the GSP. In Proclamation 7912 of that date, I added SAARC and the currently qualifying countries to general note 4(a) to the Harmonized Tariff Schedule (HTS). Pursuant to section 507(2) of the 1974 Act, I have determined that Afghanistan should be designated as a member of SAARC for purposes of the GSP on the date that it becomes a SAARC member.

13. Section 604 of the 1974 Act (19 U.S.C. 2483), as amended, authorizes the President to embody in the HTS of the United States the substance of relevant provisions of that Act, or other acts affecting import treatment, and of actions taken thereunder.

NOW, THEREFORE, I, GEORGE W. BUSH, President of the United States of America, acting under the authority vested in me by the Constitution and the laws of the United States of America, including but not limited to section 104 of the AGOA and title V and section 604 of the 1974 Act (19 U.S.C. 2461-67, 2483), do proclaim that:

(1) Liberia is designated as an eligible sub-Saharan African country and as a beneficiary sub-Saharan African country.

(2) In order to reflect this designation in the HTS, general note 16(a) to the HTS is modified by inserting in alphabetical sequence in the list of beneficiary sub-Saharan African countries “Republic of Liberia,” effective with respect to articles entered, or withdrawn from warehouse for consumption, on or after January 1, 2007.

(3) For purposes of section 112(b)(3)(B) of the AGOA, Liberia is a lesser developed beneficiary sub-Saharan African country.

(4) East Timor is designated as a beneficiary developing country for purposes of the GSP.

(5) In order to reflect this designation in the HTS, general note 4(a) to the HTS is modified by adding in alphabetical order “East Timor” to the list entitled, “Independent Countries,” effective with respect to articles entered, or withdrawn from warehouse for consumption, on or after the twentieth day after the date of this proclamation.

(6) East Timor is designated as a least-developed beneficiary developing country for purposes of the GSP.

(7) In order to reflect this designation in the HTS, general note 4(b)(i) is modified by adding in alphabetical order “East Timor,” effective with respect to articles entered, or withdrawn from warehouse for consumption, on or after the sixty-fifth day after the date of this proclamation.

(8) Bulgaria and Romania shall no longer be designated as beneficiary developing countries for purposes of the GSP upon the date that each country becomes a European Union Member State. The United States Trade Representative shall announce each such date in a notice published in the Federal Register.

(9) In order to reflect these changes in the HTS, general note 4(a) to the HTS is modified by deleting “Bulgaria” and “Romania” from the list entitled, “Independent Countries,” effective for each of these countries with respect to articles entered, or withdrawn from warehouse for consumption, on or after the day on which that country becomes a European Union Member State.

(10) Afghanistan is designated as a member of the South Asian Association for Regional Cooperation (SAARC) for purposes of the GSP on the date that it becomes a SAARC member. The United States Trade Representative shall announce such date in a notice published in the Federal Register.

(11) In order to reflect this determination in the HTS, general note 4(a) to the HTS is modified by adding in alphabetical order “Afghanistan” to the list entitled, “Member Countries of the South Asian Association for Regional Cooperation (SAARC),” effective with respect to articles entered, or withdrawn from warehouse for consumption, on or after the day on which Afghanistan becomes a SAARC member.

(12) Any provisions of previous proclamations and Executive Orders that are inconsistent with the actions taken in this proclamation are superseded to the extent of such inconsistency.

IN WITNESS WHEREOF, I have hereunto set my hand this twenty-ninth day of December, in the year of our Lord two thousand six, and of the Independence of the United States of America the two hundred and thirty-first.

[FR Doc. 07-00005

Filed 1-3-07; 11:03 am]

Billing code 3195-01-P